DEPARTMENT OF THE INTERIOR

National Park Service

[NPS-WASO-NAGPRA-22249; PPWOCRADN0-PCU00RP14.R50000]

Notice of Inventory Completion: Lake County Discovery Museum, Wauconda, IL

AGENCY: National Park Service, Interior.

ACTION: Notice.

SUMMARY: The Lake County Discovery Museum has completed an inventory of human remains and associated funerary object, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the Lake County Discovery Museum. If no additional requestors come forward, transfer of control of the human remains and associated funerary objects Indian tribes or Native Hawaiian organizations stated in this notice may proceed.

DATES: Representatives of any Indian tribe or Native Hawaiian organization not identified in this notice that wish to request transfer of control of these human remains and associated funerary objects should submit a written request with information in support of the request to the Lake County Discovery Museum at the address in this notice by December 9, 2016.

ADDRESSES: Diana Dretske, Lake County Discovery Museum, 27277 North Forest Preserve Road, Wauconda, IL 60084, telephone (847) 968-3381, email ddretske@lcfpd.org.

SUPPLEMENTARY INFORMATION: Notice is here given in accordance with the Native American Graves Protection and Repatriation Act (NAGPRA), 25 U.S.C. 3003, of the completion of an inventory of human remains and associated funerary objects under the control of the Lake County Discovery Museum, Wauconda, IL. The human remains and associated funerary objects were removed from unknown locations.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Lake County Discovery Museum professional staff in consultation with representatives of the Assiniboine and Sioux Tribes of the Fort Peck Indian Reservation, Montana; Lac Vieux Desert Band of Lake Superior Chippewa Indians of Michigan; Little River Band of Ottawa Indians, Michigan; Match-e-be-nash-she-wish Band of Pottawatomi Indians of Michigan; Nottawaseppi Huron Band of the Potawatomi, Michigan (previously listed as the Huron Potawatomi, Inc.); Pokagon Band of Potawatomi Indians, Michigan and Indiana; Sac & Fox Nation, Oklahoma; Saginaw Chippewa Indian Tribe of Michigan; and the Sault Ste. Marie Tribe of Chippewa Indians, Michigan. The following tribes with aboriginal territory in Lake County, IL, were also invited to participate but were not involved in consultations: Bad River Band of the Lake Superior Tribe of Chippewa Indians of the Bad River Reservation, Wisconsin; Bay Mills Indian Community, Michigan; Chippewa Cree Indians of the Rocky Boy's Reservation, Montana (previously listed as the Chippewa-Cree Indians of the Rocky Boy's Reservation, Montana); Citizen Potawatomi Nation, Oklahoma; Confederated Tribes of the Umatilla Indian Reservation (previously listed as the Confederated Tribes of the Umatilla Reservation, Oregon); Eastern Band of Cherokee Indians; Forest County Potawatomi Community, Wisconsin; Grand Traverse Band of Ottawa and Chippewa Indians, Michigan; Hannahville Indian Community, Michigan; Keweenaw Bay Indian Community, Michigan; Lac Courte Oreilles Band of Lake Superior Chippewa Indians of Wisconsin; Lac du Flambeau Band of Lake Superior Chippewa Indian of the Lac du Flambeau Reservation of Wisconsin; Minnesota Chippewa Tribe, Minnesota (Six component reservations: Bois Forte Band (Nett Lake); Fond du Lac Band; Grand Portage Band; Leech Lake Band; Mille Lacs Band; White Earth Band); Ottawa Tribe of Oklahoma; Prairie Band Potawatomi Nation (previously listed as the Prairie Band of Potawatomi Nation, Kansas); Red Cliff Band of Lake Superior Chippewa Indians of Wisconsin; Red Lake Band of Chippewa Indians, Minnesota; Sokaogon Chippewa Community, Wisconsin; St. Croix Chippewa Indians of Wisconsin; and the Turtle Mountain Band of Chippewa Indians of North Dakota. All tribes listed are hereafter referred to as “The Consulted and Invited Tribes.”

History and Description of the Remains

In 1970, human remains representing, at minimum, 13 individuals were placed in the Lake County Discovery Museum collection. The museum has no record of when these human remains were added to the collection or how they came to the museum. There is no additional information available about the human remains. No known individuals were identified. The human remains have been stored in the museum based on the type of bone fragment (i.e. vertebrae are stored together). Accession records indicate that some of the bone fragments are related to other bone fragments in the collection. The two associated funerary objects are one lot of pottery sherds and one bird skull.

Pursuant to 43 CFR 10.16, the Secretary of the Interior may make a recommendation for a transfer of control of culturally unidentifiable human remains and associated funerary objects. In June 2016, the Lake County Discovery Museum requested that the Secretary, through the Native American Graves Protection and Repatriation Review Committee, recommend the proposed transfer of control of the culturally unidentifiable Native American human remains and associated funerary objects in this notice to the Sault Ste. Marie Tribe of Chippewa Indians, Michigan. The Review Committee, acting pursuant to its responsibility under 25 U.S.C. 3006(c)(5), considered the request at its July 2016 meeting and recommended to the Secretary that the proposed transfer of control proceed. A September 9, 2016, letter on behalf of the Secretary of Interior from the National Park Service Associate Director, Cultural Resources, Partnerships, and Science transmitted the Secretary's independent review and concurrence with the Review Committee that:

• The Lake County Discovery Museum consulted with appropriate Indian tribes or Native Hawaiian organizations,

• None of The Consulted and Invited Tribes objected to the proposed transfer of control, and

• The Lake County Discovery Museum may proceed with the agreed upon transfer of control of the culturally unidentifiable human remains and associated funerary objects to the Sault Ste. Marie Tribe of Chippewa Indians, Michigan.

Transfer of control is contingent on the publication of a Notice of Inventory Completion in the Federal Register. This notice fulfills that requirement.

Determinations Made by the Lake County Discovery Museum

Officials of the Lake County Discovery Museum have determined that:

• Pursuant to 25 U.S.C. 3001(9), the human remains described in this notice are Native American based on accession records and consultation.

• Pursuant to 25 U.S.C. 3001(9), the human remains described in this notice represent the physical remains of a minimum of 13 individuals of Native American ancestry.

• Pursuant to 25 U.S.C. 3001(3)(A), the 2 objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• Pursuant to 43 CFR 10.16, the disposition of the human remains and associated funerary objects will be to the Sault Ste. Marie Tribe of Chippewa Indians, Michigan.

Additional Requestors and Disposition

Representatives of any Indian tribe or Native Hawaiian organization not identified in this notice that wish to request transfer of control of these human remains and associated funerary objects should submit a written request with information in support of the request to Diana Dretske, Lake County Discovery Museum, 27277 North Forest Preserve Road, Wauconda, IL 60084, telephone (847) 968-3381, email ddretske@lcfpd.org, by December 9, 2016. After that date, if no additional requestors have come forward, transfer of control of the human remains and associated funerary objects to the Sault Ste. Marie Tribe of Chippewa Indians, Michigan, may proceed.

The Lake County Discovery Museum is responsible for notifying The Consulted and Invited Tribes that this notice has been published.

Dated: October 24, 2016.
Melanie O'Brien,
Manager, National NAGPRA Program.

[FR Doc. 2016-26978 Filed 11-8-16; 8:45 am]

BILLING CODE 4312-52-P